DEPARTMENT OF ENERGY

Federal Energy Regulatory Commission

[Docket No. OR09-3-000]

Western Refining Southwest, Inc. and Western Refining Pipeline Company Complainants v. TEPPCO Crude Pipeline, LLC Respondent; Notice of Complaint

February 10, 2009.

Take notice that on February 9, 2009, Western Refining Southwest, Inc. (Western) and Western Refining Pipeline Company (Western Pipeline) filed a formal complaint against TEPPCO Crude Pipeline, LLC (TEPPCO), pursuant to Rule 206 of the Rules of Practice and Procedure of the Federal Energy Regulatory Commission (FERC), 18 CFR 385.206; the Procedural Rules Applicable to Oil Pipeline Proceedings, 18 CFR 343.2; sections 1(4), 1(5), 1(6), 2, 3(1), 6(3), 8, 9, 13(1), 15(1), 16, and 20(11) of the Interstate Commerce Act (ICA), 49 U.S.C. App. 1(4), 1(5), 2, 3(1), 8, 9, 13, 15, and 16 (1988); alleging that TEPPCO wrongfully seized crude oil that Western had tendered as line fill in TEPPCO's pipeline from Midland, TX (Midland) to Hobbs, NM (Hobbs). Western also alleges that TEPPCO continues to wrongfully retain possession of that crude oil in a tank controlled by TEPPCO, and wrongfully reversed the flow of the same Midland to Hobbs pipeline in June 2008 without notification, thereby violating a capacity lease agreement Western Pipeline had with TEPPCO. In addition, Western Pipeline alleges that TEPPCO's actions violated its regulatory obligation to publish tariff amendments with the FERC and that TEPPCO improperly solicited and collected capacity lease payments for pipeline capacity that Western Pipeline could not have utilized.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on March 2, 2009.

Kimberly D. Bose,
Secretary.

[FR Doc. E9-3340 Filed 2-13-09; 8:45 am]

BILLING CODE 6717-01-P